DEPARTMENT OF HOMELAND SECURITY

Senior Executive Service Performance Review Board

AGENCY: Office of the Secretary, Department of Homeland Security (DHS).

ACTION: Notice.

SUMMARY: This notice announces the appointment of the members of the Senior Executive Service (SES) Performance Review Board (PRB) for DHS. The purpose of the PRB is to view and make recommendations concerning proposed performance appraisals, ratings, bonuses, pay adjustments, and other appropriate personnel actions for incumbents of SES, Senior Level and Senior Professional positions of the Department.

DATES: The PRB members' terms begin October 13, 2017.

FOR FURTHER INFORMATION CONTACT: Elizabeth Haefeli, Office of the Chief Human Capital Officer, Elizabeth.Haefeli@hq.dhs.gov, or by telephone (202) 357-8164.

SUPPLEMENTARY INFORMATION: Each Federal agency is required to establish one or more performance review boards to make recommendations, as necessary, in regard to the performance of senior executives within the agency. 5 U.S.C. 4314(c). This notice announces the appointment of the members of the PRB for DHS. The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Agarwal, Nimisha

Albence, Matthew T

Allen, Matthew C

Alles, Randolph D

Allison, Roderick J

Anderson, Sandra D

Annan, Niccomedo S

Archambeault, Gregory J

Asher, Nathalie R

Asseng Jr, George A

Awni, Muhammad H

Ayala, Janice

Bailey, Angela S

Barrera, Staci

Barrera, Staci A

Bench, Bradford A

Benner, Derek N

Berger, Katrina W

Bible, Daniel A

Borkowski, Mark S

Braccio, Dominick D

Bramell, Brittany M

Brown, A. Scott

Brown, Michael C

Brunjes, David

Bryan, William N

Bush, Thomas L

Buster, Robert P

Cahill, Donna L

Callahan, William J

Calvo, Karl H

Cappello, Elizabeth A

Carraway, Melvin

Carrick, Patrick G

Carver, Jonathan I

Castro, Raul

Chang, Hayley

Chavez, Richard M

Cheng, Wen Ting

Cissna, Tiffany A

Clark, Kenneth N

Cline, Richard K

Cogswell, Patricia F

Coleman, Corey

Colucci, Nicholas

Contreras, Patrick D

Davidson, Andrew

Davidson, Michael J

Davis, Michael P

Dawson, Mark B

Decker, Thomas R

DiFalco, Frank J

DiPietro, Joseph R

Dougherty, Thomas E

Dragani, Nancy J

Driggers, Richard J

Dunbar, Susan

Edge, Peter T

Edwards, Benjamin R

Emrich, Matthew

Erichs, Alysa D

Etre, Matthew J

Falk, Scott

Fallon, William T

Fenton, Jennifer M

Filipponi, Karen B

Fitzmaurice, Stacey D

Flores, Simona L

Fluty, Larry D

Folden, Shane M

Fortner, Robert C

Fujimara, Paul

Fujimura, Paul N

Fulghum, Charles H

Gallagher, Sean W

Gallihugh II, Ronald B

Gammon, Carla

Gantt, Kenneth D

Gibbons, James M

Glawe, David J

Gowadia, Huban A

Griggs, Christine

Groom, Molly M

Guzman, Nicole G

Hall, Christopher J

Hammersley, Bonnie M

Hampton, Stephanie L

Harris, Melvin

Havranek, John

Heighberger, Eric B

Henderson, Latetia M

Hess, David

Hewitt, Ronald

Higgins, Jennifer

Higgins, Jennifer

Hill, Marcus L.

Hochman, Kathleen T

Hoffman, Jonathan R

Howard, Jr., Percy L

Huang, Paul P

Hutchinson, Kimberly S

Jacksta, Linda L.

Jenkins, Jr., Kenneth T

Jennings, David W

Jeronimo, Jose M

Johnson, Tae D

Jones, Keith

Jones, Keith A

Jones, Sophia D

Kair, Lee R

Karoly, Stephen J

Kelly, William G

Kerner, Francine

Kerns, Kevin

Khu, Jae A

King, Tatum S

Kirby, Lyn

Klein, Matthew

Kolasky, Robert P

Kolbe, Kathryn L

Koumans, Mark R

Kruger, Mary U

Lajoye, Darby R

Landfried, Phillip A

Lanum, Scott F

Lechleitner, Patrick J

Lenox, Mark R

Lewis, Donald R

Ley, Jennifer E

Lucero, Enrique M

Luck, Scott A

Lundgren, Karen E

Macias, Joseph

Maher, Joseph

Manaher, Colleen M

Manfra, Jeanette M

Marcott, Stacy A

Marin, David A

Mayenschein, Eddie D

McCane, Bobby

McElwain, Patrick J

McLane, Jo Ann

McNeill, Ha N

McNeill, Ha Nguyen

Melendez, Angel M

Melero, Mariela

Micone III, Vincent N

Mildrew, Sean M

Miles, Jere T

Miller, Marlon V

Miller, Philip T

Mocny, Robert A

Moman, C. Christopher

Monarez, Susan C

Moore, Joseph D

Moore, Mark J

Moskowitz, Brian M

Moynihan, Timothy M

Mulligan, George D

Mulligan, Scott E

Nally, Kevin

Neufeld, Donald

Neufeld, Donald W

Nevano, Gregory C

Newhouse, Victoria E

Newman, Jane E

Nuebel-Kovarik, Kathy

Nykamp, Nancy A

Opiola, Terence S

Owen, Todd C

Padilla, Kenneth

Palmer, David

Palmer, David J

Pane, Karen W

Paramore, Faron K

Parmer Jr, Raymond R

Patterson, Leonard E

Perez, Nelson

Perez, Robert E

Pineiro, Marlen

Price, Corey A

Provost, Carla L

Renaud, Daniel

Renaud, Tracy

Rittenberg, Scott R

Rivera, David D

Robbins, Timothy S

Roberts, Russell A

Rodriguez, Waldemar

Rogers, Debra A

Rose Jr, Pat A

Sahakian, Diane V

Salzgaber, Wayne H

Sammon, John P

Sarandrea, Eric

Saunders, Ian C

Scanlon, Julie A

Scott, Kika M

Seguin, Debbie

Selby, Mark R

Sellers, Frederick E

Settles, Clark E

Shah, Dimple

Shaw, David C

Shelton Waters, Karen R

Short, Victoria D

Smith, Brenda B

Solheim, Linda T

Spero, James

Spradlin, Ryan L

Stein, Frederick A

Swartz, Neal

Swartz, Neal J

Sykes, Gwendolyn

Trotta, Nicholas

Ulrich II, Dennis A

Valerio, Tracey A

Valverde, Michael

Veatch, John E

Vente, Robert P

Venture, Veronica A

Villanueva, Raymond

Vitiello, Ronald D

Wagner, John P

Walton, Kimberly H

Weinberg, Joseph W

Whittenburg, Cynthia F

Windham, Nicole

Wofford, Cynthia R

Wong, Ricardo A

Wulf, David M

Yarwood, Susan A

Young, Edward E

Dated: October 4, 2017.
Greg Ruocco,
Manager, Executive Resources Policy, Office of the Chief Human Capital Officer.

[FR Doc. 2017-22161 Filed 10-12-17; 8:45 am]

BILLING CODE 9110-9B-P